DEPARTMENT OF ENERGY

Federal Energy Regulatory Commission

[Docket No. RP03-377-001]

Dominion Transmission, Inc.; Notice of Compliance Filing

July 3, 2003.

Take notice that on June 30, 2003, Dominion Transmission, Inc. (DTI) tendered for filing as part of its FERC Gas Tariff, Third Revised Volume No. 1, Substitute Fifth Revised Sheet No. 1173, with an effective date of July 1, 2003.

DTI states that the purpose of this filing is to comply with the Commission's order issued June 20, 2003 in Docket No. RP03-377-000 requiring that DTI refile a substitute tariff sheet correcting the references and incorporation of North American Energy Standards Board's Wholesale Gas Quadrant (WGQ) standards governing partial day recalls. DTI states that it has made the changes requested by the Commission and has further corrected the affected sheet to comply with the WGQ standards.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Linda Mitry,
Acting Secretary.

[FR Doc. 03-17501 Filed 7-9-03; 8:45 am]

BILLING CODE 6717-01-P